COMMITTEE FOR PURCHASE FROM PEOPLE WHO ARE BLIND OR SEVERELY DISABLED

Procurement List Additions

AGENCY: Committee for Purchase From People Who Are Blind or Severely Disabled.

ACTION: Additions to the Procurement List.

SUMMARY: This action adds products to the Procurement List that will be furnished by nonprofit agencies employing persons who are blind or have other severe disabilities.

DATES: Effective date: 8/24/2015.

ADDRESSES: Committee for Purchase From People Who Are Blind or Severely Disabled, 1401 S. Clark Street, Suite 715, Arlington, Virginia 22202-4149.

FOR FURTHER INFORMATION CONTACT: Patricia Briscoe, Telephone: (703) 603-7740, Fax: (703) 603-0655, or email CMTEFedReg@AbilityOne.gov.

SUPPLEMENTARY INFORMATION:

Additions

On 5/1/2015 (80 FR 24905-24906), 6/12/2015 (80 FR 33485-33489), and 6/19/2015 (80 FR 35320-35321), the Committee for Purchase From People Who Are Blind or Severely Disabled published notices of proposed additions to the Procurement List.

After consideration of the material presented to it concerning capability of qualified nonprofit agencies to furnish the products and impact of the additions on the current or most recent contractors, the Committee has determined that the products listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products to the Government.

2. The action will result in authorizing small entities to furnish the products to the Government.

3. There are no known regulatory alternatives which would accomplish the objectives of the Javits-Wagner-O'Day Act (41 U.S.C. 8501-8506) in connection with the products proposed for addition to the Procurement List.

End of Certification

Accordingly, the following products are added to the Procurement List:

Products

NSNs—Product Names:

7520-00-NIB-2135—Pen, Retractable Gel, Black Ink, Medium Point

7520-00-NIB-2136—Pen, Retractable Gel, Blue Ink, Medium Point

7520-00-NIB-2235—Pen, Retractable Gel, Black Ink, Fine Point

7520-00-NIB-2236—Pen, Retractable Gel, Blue Ink, Fine Point

Distribution: A-List

7520-00-NIB-2237—Pen, Retractable Gel, Black Ink, Bold Point

7520-00-NIB-2238—Pen, Retractable Gel, Blue Ink, Bold Point

Distribution: B-List

Mandatory Purchase for: Total Government Requirement

Mandatory Source of Supply: Industries of the Blind, Inc., Greensboro, NC

Contracting Activity: General Services Administration, New York, NY

NSN—Product Name: 7240-00-NIB-0006—Kit, Cleaning, Bucket and Caddy

Mandatory Purchase for: Total Government Requirement

Mandatory Source of Supply: Industries for the Blind, Inc., West Allis, WI

Contracting Activity: General Services Administration, Fort Worth, TX

Distribution: B-List

NSN—Product Name: 1005-00-NIB-0016—Guard, Gun Barrel, Black, One Size Fits All

Mandatory Purchase for: 100% of the requirement of the Department of Defense

Mandatory Source of Supply: The Lighthouse for the Blind in New Orleans, Inc., New Orleans, LA

Contracting Activity: Defense Logistics Agency Land and Maritime, Columbus, OH

Distribution: C-List

NSN—Product Name: 7530-01-352-6616—Note Pad, Self-Stick, Fanfold, Yellow, 3″ x 3″

Mandatory Purchase for: Total Government Requirement

Mandatory Source of Supply: Association for the Blind and Visually Impaired—Goodwill Industries of Greater Rochester, Rochester, NY

Contracting Activity: General Services Administration, New York, NY

Distribution: A-List

NSN—Product Name: 4240-01-469-8738—Hearing Protection, Over-The-Head Earmuff, NRR 27dB

Mandatory Purchase for: Total Government Requirement

Mandatory Source of Supply: Access: Supports for Living Inc., Middletown, NY

Contracting Activity: Defense Logistics Agency Troop Support, Philadelphia, PA

Distribution: A-List

Patricia Briscoe,
Deputy Director, Business Operations (Pricing and Information Management).

[FR Doc. 2015-18200 Filed 7-23-15; 8:45 am]

BILLING CODE 6353-01-P